NUCLEAR REGULATORY COMMISSION

Sunshine Act Meeting Notice

Date: Weeks of September 1, 8, 15, 22, 29, October 6, 2003.

Place: Commissioners' Conference Room, 11555 Rockville Pike, Rockville, Maryland.

Status: Public and closed.

Week of September 1, 2003

There are no meetings scheduled for the Week of September 1, 2003.

Week of September 8, 2003—Tentative

Wednesday, September 10, 2003

1 p.m. Meeting with Organization of Agreement States (OAS) and Conference of Radiation Control Program Directors (CRCPD) (Public Meeting) Contact: John Zabko, 301-415-2308)

This meeting will be webcast live at the Web address— http://www.nrc.gov.

3 p.m. Discussion of Security Issues (Closed—Ex. 1)

Thursday, September 11, 2003

1:30 p.m. Discussion of Security Issues (Closed—Ex. 1)

Week of September 15, 2003—Tentative

There are no meetings scheduled for the Week of September 15, 2003.

Week of September 22, 2003—Tentative

Wednesday, September 24, 2003

9 a.m. Briefing on Emergency Preparedness Program Status (Public Meeting) (Contact: Eric Weiss 301-415-3624)

This meeting will be webcast live at the Web address— http://www.nrc.gov.

Week of September 29, 2003—Tentative

Thursday, October 2, 2003

9:30 a.m. Meeting with Advisory Committee on Reactor Safeguards (ACRS) (Public Meeting) (Contact: John Larkins, 301-415-7360

This meeting will be webcast live at the Web address— http://www.nrc.gov.

Week of October 6, 2003—Tentative

Tuesday, October 7, 2003

1:30 p.m. Discussion of Management Issues (Closed—Ex.2)

*The schedule for Commission meetings is subject to change on short notice. To verify the status of meetings call (recordings)—(301) 415-1292. Contact person for more information: David Louis Gamberoni (301) 415-1651.

* * * * *

SUPPLEMENTARY INFORMATION:

By a vote of 3-0 on August 27, the Commission determined pursuant to U.S.C. 552b(e) and § 9.107(a) of the Commission's rules that “Discussion of Security Issues (Closed—Ex. 1)” be held August 27, and on less than one week's notice to the public.

By a vote of 3-0 on August 27, the Commission determined pursuant to U.S.C. 552b(e) and § 9.107(a) of the Commission's rules that “Affirmation of (1) Final Rule: 10 CFR Parts 30, 40, and 70: Financial Assurance for Materials Licensees; (2) Final Rulemaking—Risk-Informed 10 CFR 50.44, “Combustible Gas Control in Containment”; (3) Final Rule on Electronic Maintenance and Submission of Information; and (4) Tennessee Valley Authority (Watts Bar Nuclear Plant, Units 1 & 2, Browns Ferry Nuclear Plant, Units 1, 2 & 3), Docket Nos. 50-390-CIVP; 50-0327-CIVP; 50-328-CIVP; 50-259-CIVP; 50-260-CIVP; 50-296-CIVP; LBP-03-10 (June 26, 2003)'' be held on August 28, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, pleaase contact the Office of the Secretary, Washington, DC 20555 (301-415-1969). In addition, distribution of this meeting notice over the internet system is available. If you are interested in receiving this Commission meeting schedule electronically, please send an electronic message to dkw@nrc.gov.

Dated: August 28, 2003.
R. Michelle Schroll,
Information Management Specialist, Office of the Secretary.

[FR Doc. 03-22507 Filed 8-29-03; 11:14 am]

BILLING CODE 7590-01-M